DEPARTMENT OF THE INTERIOR

Bureau of Land Management

[OR-030-01-1610-DQ:GP1-0136]

Notice of Availability of Proposed Southeastern Oregon Resource Management Plan and Final Environmental Impact Statement; and Proposed Area of Critical Environmental Concern Designations

AGENCY: Bureau of Land Management, Malheur and Jordan Resource Areas, Vale District.

SUMMARY: Pursuant to section 202 of the Federal Land Policy and Management Act and section 102(2)(c) of the National Environmental Policy Act, the Bureau of Land Management (BLM) has prepared a Proposed Southeastern Oregon Resource Management Plan (PSEORMP) and associated final Environmental Impact Statement (FEIS) for the Malheur and Jordan Resource Areas, Vale District, Oregon. The Final SEORMP will only provide management direction for a portion of the original planning area. The Draft SEORMP/EIS (October, 1998) addressed approximately 6.3 million acres of public land; however, due to congressional action (House Resolution 4828, Steens Mountain Cooperative Management and Protection Act of 2000), the Andrews Resource Area was withdrawn from the land use planning process and will be addressed in a separate land use planning process scheduled to begin in 2001 by the Burns BLM District. Final decisions of this SEORMP planning process will supercede the Northern and Southern Malheur Management Framework Plans, as amended, and the Ironside and Southern Malheur Rangeland Program Summaries. The Final SEORMP will provide direction for management of these public lands for approximately 20 years. The PSEORMP/FEIS addresses seven alternatives for management, including the Proposed Resource Management Plan (Proposed RMP), on approximately 4.6 million acres of BLM administered public lands in southeast Oregon. The Proposed RMP would result in designation of all public lands for the management of motorized vehicles (2,615,116 acres Open, 2,004,369 acres Limited, and 15,826 acres Closed), and would recommend 42.5 miles of streams and river segments determined to be eligible and administratively suitable for congressional designation under the Wild and Scenic Rivers Act. This notice is also issued pursuant to 43 CFR Part 1610.7-2(b) of the BLM Planning Regulations, with the Proposed RMP proposing 26 Areas of Critical Environmental Concern (ACEC) (approximately 206,257 acres) be designated.

DATES: The public has the opportunity to protest the proposed resource management plan in the Final EIS. The BLM Planning Regulations, 43 CFR 1610.5-2, state that any person who participated in the planning process and has an interest which may be adversely affected may protest. A protest may raise only those issues which were submitted for the record during the planning process. The BLM will make a decision on the SEORMP after review of protests (if any) that must be filed by December 5, 2001. Written protests may be submitted at any time during the protest period at the following address: Director, Bureau of Land Management, Attention: Ms. Brenda Williams, Protests Coordinator, WO-210/LS-1075, Department of the Interior, Washington, DC 20240. To be considered timely, your protest must be postmarked no later than the last day of the protest period. Also, although not a requirement, we suggest that you send your protest by certified mail, return receipt requested.

To be considered complete, your protest must contain, at a minimum, the following information:

• Name, mailing address, telephone number and the affected interest of the person filing the protest(s).

• A statement of the issue or issues being protested.

• A statement of the part or the parts of the proposed plan being protested. To the extent possible, reference specific pages, paragraphs and sections of the document.

• A copy of all your documents addressing the issue or issues which were discussed with BLM for the record.

• A concise statement explaining why the proposed decision is believed to be incorrect. This is a critical part of your protest. Document all relevant facts, as much as possible, referencing or citing the planning and environmental analysis documents. A protest that merely expresses disagreement with the State Director's proposed decision without any data will not provide us with the benefit of your information and insight. In this case, the Director's review will be based on the existing analysis and supporting data.

FOR FURTHER INFORMATION CONTACT: Jerry Taylor, Jordan Resource Area Field Manager; or Roy Masinton, Malheur Resource Area Field Manager, BLM, 100 Oregon Street, Vale, Oregon 97918. Telephone (541) 473-3144. Single copies of the PSEORMP/FEIS are available at the BLM Vale District Office. Copies will also be available for inspection during normal business hours at the BLM Baker Field Office, 3165 10th Street, Baker City, Oregon, the BLM Burns District Office, HC 74-12533, Highway 20 West, Hines, Oregon, and the BLM Oregon State Office, 1515 SW 5th Street, Portland, Oregon. Comments on the PSEORMP/FEIS, including names and addresses of respondents, will be available for public review at the Vale District Office during regular business hours (7:45 a.m. to 4:30 p.m. (mountain time), Monday through Friday, except holidays. Individuals may request confidentiality. If you wish to withhold your name or address from public review or from disclosure under the Freedom of Information Act, you must state this promptly at the beginning of your written comment. Such requests will be honored to the extent allowed by law. All submissions from organizations or businesses, and from individuals identifying themselves as representatives or officials of organizations or businesses, will be made available for public inspection in their entirety. Interested persons not already on the mailing list may review the PSEORMP/FEIS via the internet at http://www.or.blm.gov/Vale.A hard copy or a CD ROM of the document may be requested from the Vale District Office by calling (541) 473-3144.

SUPPLEMENTARY INFORMATION: The Malheur and Jordan Resource Areas include 4,600,648 acres of BLM administered public lands in Malheur, Harney, and Grant Counties, Oregon, and encompass approximately 1,851,708 acres of other Federal, State and private lands. The land use planning effort addresses a broad spectrum of land uses and allocations. The Proposed RMP Alternative also provides for the following: the use of wild and prescribed fire to meet resource objectives; provisions for possible disposal of several parcels of potentially suitable public land totaling approximately 62,100 acres; livestock grazing on public lands except for approximately 58,900 acres not allocated; varied recreation uses and establishment of five special recreation management areas; management of special status plant and animal species and habitat; improvement of water quality and riparian habitats; management of wild horses in seven herd management areas; and mineral exploration and development, with retention of currently withdrawn public lands from locatable minerals and recommendation for withdrawal of several parcels from locatable minerals totaling approximately 116,351 acres for provisions such as ACEC's and administrative and recreation facilities. Other management actions under the Proposed RMP Alternative are as described in the PSEORMP/FEIS. The PSEORMP/FEIS is based on adaptive management, which is a continuing process of planning, implementation, monitoring, and evaluation to adjust management strategies to meet goals and objectives of ecosystem management. The concept of adaptive management uses the latest scientific information, site-specific information/data, and professional judgement to select the management strategy most likely to meet goals and objectives of the plan.

Sandra L. Guches,
Acting Vale District Manager.

[FR Doc. 01-27456 Filed 11-2-01; 8:45 am]

BILLING CODE 4310-33-P